DEPARTMENT OF TRANSPORTATION

Federal Aviation Administration

14 CFR Part 71

[Docket No. FAA-2016-9481; Airspace Docket No. 16-ASW-18]

Proposed Amendment of Class E Airspace; Midland, TX and Proposed Establishment of Class E Airspace; Odessa, TX and Midland, TX

AGENCY: Federal Aviation Administration (FAA), DOT.

ACTION: Notice of proposed rulemaking (NPRM).

SUMMARY: This action proposes to amend Class E airspace extending upward from 700 feet above the surface at Midland International Air and Space Port Airport (formerly Midland International Airport), Midland, TX, due to the closing of Mabee Ranch Airport, decommissioning of the Mabee non-directional radio beacon (NDB), and cancellation of NDB approaches at Mabee Ranch Airport. Additionally, this proposal would establish Class E airspace extending upward from 700 feet above the surface at Odessa Airport-Schlemeyer Field, Odessa, TX, and Midland Airpark, Midland, TX, to accommodate special instrument approach procedures developed at these airports to enhance the safety and management of standard instrument approach procedures for instrument flight rules (IFR) operations. Also, this proposal would make an editorial change to the legal descriptions by replacing Airport/Facility Directory with the term Chart Supplement, and would change the airport name to Midland International Air and Space Port Airport.

DATES: Comments must be received on or before July 10, 2017.

ADDRESSES: Send comments on this proposal to the U.S. Department of Transportation, Docket Operations, 1200 New Jersey Avenue SE., West Building Ground Floor, Room W12-140, Washington, DC 20590, telephone (202) 366-9826 or (800) 617-5527. You must identify FAA Docket No. FAA-2016-9481; Airspace Docket No. 16-ASW-18, at the beginning of your comments. You may also submit comments through the Internet at http://www.regulations.gov. You may review the public docket containing the proposal, any comments received, and any final disposition in person in the Dockets Office between 9:00 a.m. and 5:00 p.m., Monday through Friday, except Federal holidays.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Rebecca Shelby, Central Service Center, Operation Support Group, Federal Aviation Administration, Southwest Region, 10101 Hillwood Parkway, Fort Worth, TX 76177; telephone: (817) 222-5857.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would amend Class E airspace at Midland International Air Space Port Airport by removing Mabee Ranch Airport, Midland, TX, because the airport is closed, and establish Class E airspace at Odessa Airport-Schlemeyer Field, Odessa, TX, and Midland Airpark, Midland, TX, to ensure the efficient use of airspace within the National Airspace System.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-9481/Airspace Docket No. 16-ASW-18.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Central Service Center, Operations Support Group, 10101 Hillwood Parkway, Fort Worth, TX 76177.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is proposing an amendment to Title 14 Code of Federal Regulations (14 CFR) part 71 by:

Modifying Class E airspace extending upward from 700 feet above the surface within a 7.1-mile radius (from a 17.4-mile radius) of Midland International Air and Space Port Airport, Midland, TX. Airspace reconfiguration is necessary due to the closing of Mabee Ranch Airport, and decommissioning and cancellation of the Mabee NDB, and NDB approaches;

Establishing Class E airspace extending upward from 700 feet above the surface within a 6.6-mile radius of both Midland Airport, Midland, TX, and Odessa Airport-Schlemeyer-Field, Odessa, TX, to accommodate special instrument approach procedures for IFR operations at these airports;

Updating the airport's name in the associated Class E airspace areas; and making an editorial change in the legal description by replacing Airport/Facility Directory with the term Chart Supplement.

Class E airspace areas are published in Paragraph 6002 and 6005, respectively, of FAA Order 7400.11A, dated August 3, 2016, and effective September 15, 2016, which is incorporated by reference in 14 CFR 71.1. The Class E airspace designation listed in this document will be published subsequently in the Order.

Regulatory Notices and Analyses

The FAA has determined that this proposed regulation only involves an established body of technical regulations for which frequent and routine amendments are necessary to keep them operationally current, It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the forgoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Surface Area Airspace.

* * * * *

ASW TX E2 Midland International Air and Space Port Airport, TX [Amended]

Midland International Air and Space Port Airport, TX

(Lat. 31°56′33″ N., long. 102°12′07″ W.)

Within a 5-mile radius of Midland International Air and Space Port Airport. This Class E airspace area is effective during the specific dates and times established in advance by a Notice to Airmen. The effective date and time will thereafter be continuously published in the Chart Supplement.

Paragraph 6005 Class E Airspace Areas Extending Upward From 700 Feet or More Above the Surface of the Earth.

* * * * *

ASW TX E5 Midland, TX [Amended]

Midland International Air and Space Port Airport, TX

(Lat. 31°56′33″ N., long. 102°12′07″ W.)

That airspace extending upward from 700 feet above the surface within a 7.1-mile radius of Midland International Air and Space Port Airport.

ASW TX E5 Odessa, TX [New]

Odessa Airport-Schlemeyer Field, TX

(Lat. 31°55′17″ N., long. 102°23′14″ W.)

That airspace extending upward from 700 feet above the surface within a 6.6-mile radius of Odessa Airport-Schlemeyer Field Airport.

ASW TX E5 Midland, TX [New]

Midland Airpark, TX

(Lat. 32°02′12″ N., long. 102°06′05″ W.)

That airspace extending upward from 700 feet above the surface within a 6.6-mile radius of Midland Airpark.

Issued in Fort Worth, TX, on May 17, 2017.
Walter Tweedy,
Acting Manager, Operations Support Group, ATO Central Service Center.

[FR Doc. 2017-10740 Filed 5-25-17; 8:45 am]

BILLING CODE 4910-13-P